NUCLEAR REGULATORY COMMISSION

[Docket No. 50-271]

Vermont Yankee Nuclear Power Corporation; Correction

On April 23, 2001, exemptions to 10 CFR part 50, Appendix G were published related to the Vermont Yankee Nuclear Power Station (66 FR 20486). The words “material heat 76492” on page 20487, column 1 on line 3 should be corrected to read “material heat C-3017-2”

Dated at Rockville, Maryland, this 2nd day of July 2001.
For the Nuclear Regulatory Commission.
Victor Nerses,
Acting Chief, Section 2, Project Directorate I, Division of Licensing Project Management, Office of Nuclear Reactor Regulation.

[FR Doc. 01-18173 Filed 7-19-01; 8:45 am]

BILLING CODE 7590-01-M